DEPARTMENT OF HOUSING AND URBAN DEVELOPMENT

[Docket No. FR-5024-N-01]

Universities Rebuilding America Partnerships (URAP)—Historically Black Colleges and Universities (HBCU)

AGENCY: Office of Policy Development and Research, HUD.

ACTION: Notice of Funding Availability (NOFA).

OVERVIEW INFORMATION: A. Federal Agency Name: Department of Housing and Urban Development, Office of Policy Development and Research, Office of University Partnerships.

B. Funding Opportunity Title: Universities Rebuilding America Partnerships (URAP)—Historically Black Colleges and Universities (HBCU).

C. Announcement Type: Initial announcement.

D. Funding Opportunity Numbers: The Federal Register number for this NOFA is FR-5024-N-01. The OMB approval number for this program is 2528-0235.

E. Catalog of Federal Domestic Assistance (CFDA) Number: The CFDA number for this program is 14.520.

F. Dates: The application submission date is December 1, 2005.

G. Additional Overview Content Information

1. Purpose of the Program: The Universities Rebuilding America Partnerships (URAP)—Historically Black Colleges and Universities (HBCU) program will provide critical resources and assistance to communities, principally for persons of low- and moderate-income, impacted by Hurricanes Katrina or Rita (or both) to revitalize their communities and rebuild their lives.

2. Award Information: Approximately $3.6 million of unobligated funds appropriated for the HBCU program under the Consolidated Appropriations Act, 2005 (Pub. L. 108-447, approved December 8, 2004) has been made available for this program. If funding remains after awards are made to all eligible applicants, the remaining funds will be used in the Fiscal Year (FY) 2006 funding cycle competition for the Office of University Partnerships, Historically Black Colleges and Universities program.

The maximum amount an applicant can request for award is $350,000 for a two-year (24-month) grant performance period.

3. Eligible Applicants: Historically Black Colleges and Universities that meet the definition of Historically Black Colleges and Universities as determined by the U.S. Department of Education (see 34 CFR 608.2) in accordance with that Department's responsibilities under Executive Order 13256, dated February 12, 2002, are eligible to apply for funding under this program. Applicants must be accredited by a national or regional accrediting agency recognized by the U.S. Department of Education.

Full Text of Announcement

I. Funding Opportunity Description

A. Purpose

The purpose of the Universities Rebuilding America Partnerships (URAP)—Historically Black Colleges and Universities (HBCU) program is to provide critical resources and assistance to communities, principally for persons of low- and moderate-income, impacted by Hurricanes Katrina or Rita (or both) to revitalize their communities and rebuild their lives.

For the purposes of this program, an applicant must provide services or activities in, or for the benefit of persons currently residing in or displaced from, a designated disaster area affected by Hurricanes Katrina or Rita.

B. Authority

HUD's authority for making funding available under this NOFA is the Consolidated Appropriations Act, 2005 (Pub. L. 108-447; approved December 8, 2004). This program is implemented through the regulations at 24 CFR 570.404 and through this NOFA, and the policies governing its operation are contained herein.

II. Award Information

A. Award Amount

Approximately $3.6 million of unobligated funds appropriated for the HBCU program under the Consolidated Appropriations Act, 2005 (Pub. L. 108-447) has been made available for this program. If funding remains after awards are made to all eligible applicants, the remaining funds will be used in FY06 to fund applicants for the Office of University Partnerships, HBCU program.

The maximum amount an applicant can request for award is $350,000 for a two-year (24-month) grant performance period.

B. Additional Information

1. For purposes of this NOFA, the 15 percent cap on public service activities (see 24 CFR 570.201(e)(1)) is inapplicable. See section VIII.A of this NOFA for more information.

2. Institutions applying for the URAP-HBCU program also may submit applications for the URAP-Community Design Program (CDP) awards.

III. Eligibility Information

A. Eligible Applicants

Historically Black Colleges and Universities as determined by the U.S. Department of Education (see 34 CFR 608.2) in accordance with that Department's responsibilities under Executive Order 13256, dated February 12, 2002, are eligible to apply for funding under this program. All applicants must be accredited by a national or regional accrediting agency recognized by the U.S. Department of Education.

B. Cost Sharing or Matching

None Required.

C. Other

1. Eligible Activities

Eligible activities are listed in 24 CFR part 570, subpart C, particularly §§ 570.201 through 570.206. Information regarding these activities can be found at: www.hudclips.org (click on the Code of Federal Regulations for detailed information).

a. Examples of eligible activities for this program include, but are not limited to:

(1) Clearance and demolition;

(2) Rehabilitation of residential structures, including lead-based paint hazard evaluation and reduction, and making accessibility and visitability modifications in accordance with the requirements of Section 504 of the Rehabilitation Act of 1973 (29 U.S.C. 794);

(3) Assistance to organizations within the disaster area, including community-based development organizations in accordance with 24 CFR 570.204; faith-based organizations; institutions of higher education; and state and local entities to carry out neighborhood revitalization and community economic development;

(4) Public service activities such as those general support activities that can help to stabilize a neighborhood in the designated disaster area and contribute to sustainable redevelopment of the area, including, but not limited to, such activities as those concerned with employment, job training, youth programs, child care, and health care services;

(5) Technical assistance to help neighborhood residents file insurance claims and obtain qualified, reputable contractors to make repairs on homes/property;

(6) Distance learning opportunities to displaced university students and local residents—who are away from the campus/office;

(7) Establishment of neighborhood technology centers (e.g., neighborhood network centers); and

(8) Technical assistance to small and minority-owned businesses.

b. Eligible activities that may be funded under this program are those eligible activities that meet both the Community Development Block Grant (CDBG) program national objectives and eligibility requirements.

c. The three national objectives of the CDBG program are to:

(1) Benefit low- or moderate-income persons;

(2) Aid in the prevention or elimination of slums or blight; and

(3) Meet other community development needs having a particular urgency because existing conditions pose a serious and immediate threat to the health and welfare of the community, and when other financial resources are not available to meet such needs. Criteria for determining whether an activity addresses one or more national objectives are provided at 24 CFR 570.208.

d. The CDBG publication entitled “Community Development Block Grant Program Guide to National Objectives and Eligible Activities for Entitlement Communities” describes the CDBG regulations, and a copy may be obtained from HUD's NOFA Information Center at 800-HUD-8929 (toll-free) or 800-HUD-2209 (toll-free) for the hearing-impaired.

2. Audit Requirements

Applicants must ensure that their most current A-133 audit is on file at the Federal Audit Clearinghouse. (Applicants are not required to submit a copy of the audit with the application.) Grantees that expend $500,000 or more in federal financial assistance in a single year (this can be program year or fiscal year) must be audited in accordance with the OMB requirements as established in 24 CFR part 84. Additional information regarding this requirement can be accessed at the following Web site: http://harvester.census.gov/sac.

3. Threshold Requirements

All applicants must comply with the threshold requirements as defined in the General Section of the FY2005 SuperNOFA (70 FR 13576, March 21, 2005) and the requirements listed below to be evaluated, rated, and ranked. Applications that do not meet these requirements will be considered ineligible for funding and will be disqualified:

a. An applicant must meet the eligibility requirements as defined in Section III.A. Eligible Applicants.

b. Only one application can be submitted per institution. If multiple applications are submitted, all will be disqualified.

c. An applicant must receive a minimum score of 75 points to be considered for funding.

d. An applicant must have a DUNS number to receive HUD grant funds. (The General Section of the FY 2005, SuperNOFA) provides information regarding the DUNS requirement).

4. Program Requirements

In addition to the program requirements listed in Section III.C of the General Section, applicants must meet the following program requirements:

a. All funds awarded are for a two-year (24-month) grant performance period.

b. Applicants must ensure that not less than 51 percent of the aggregated expenditures of the grant benefits low- and moderate-income persons under the criteria specified in 24 CFR 570.208(a) or 570.208(d)(5) or (6).

c. Environmental Requirements. Selection for award does not constitute approval of any proposed sites. Following selection for award, HUD will perform an environmental review of properties proposed for assistance in accordance with 24 CFR part 50. The results of the environmental review may require that proposed activities be modified or proposed sites be rejected. Applicants are particularly cautioned not to undertake or commit funds for acquisition or development of proposed properties prior to HUD approval of specific properties or areas. An application constitutes an assurance that the institution will help HUD comply with 24 CFR part 50; will supply HUD with all available and relevant information to perform an environmental review for each proposed property; will carry out mitigating measures required by HUD or select alternate property; and will not acquire, rehabilitate, convert, demolish, lease, repair, or construct property, and not commit or expend HUD or local funds for these program activities with respect to any eligible property until HUD's written approval of the property is received. In supplying HUD with environmental information, applicants should use the same guidance as provided in the HUD Notice CPD-05-07 entitled “Field Environmental Review Processing for Rural Housing and Economic Development (RHED) Grants,” issued August 30, 2005, http://www.hudclips.org/subscriber/cgi/legis.cgi?legis.

Further information and assistance on HUD's environmental requirements is available at http://www.hud.gov/offices/cpd/energyenviron/environment/index.cfm.

d. Labor Standards. By Proclamation 7924 of September 8, 2005, the President suspended Davis-Bacon labor standards requirements with respect to all contracts entered into on or after that date to be performed in designated areas affected by Hurricane Katrina. See 70 FR 54225, September 13, 2005. In areas not specifically listed in this proclamation, including some areas that may have been affected by Hurricane Rita, institutions and their subgrantees, contractors and subcontractors must comply with the labor standards (Davis-Bacon) requirements referenced in 24 CFR 570.603. All contractors must continue to comply with the provisions of the Contract Work Hours and Safety Standards Act to the extent previously required, as referenced in § 570.603.f., Economic Opportunities for Low- and Very-Low Income Persons (Section 3). The provisions of Section 3 of the Housing and Urban Development Act of 1968 (12 U.S.C. 1701u) apply to this NOFA. Regulations may be found at 24 CFR part 135.

IV. Application and Submission Information

A. Addresses To Request Application Package

Applicants may submit either a paper or electronic application. When submitting an electronic application, applicants may download the instructions to the application found on the Grants.gov Web site at http://www.Grants.gov./Apply. The instructions contain the General Section and Program Section of the published NOFA, as well as forms that you must complete and attach as a ZIP file to your application submission. If you have difficulty accessing the information, you may call the Grants.gov Support Desk toll-free at (800) 518-GRANTS or e-mail your questions to Support@Grants.gov. The Support Desk staff will assist you in accessing the information. Please remember that you must complete the five-step registration process in order to submit an application utilizing Grants.gov. Your registration allows you to electronically sign the application and enables Grants.gov to authenticate that the person signing the application has the legal authority to submit the application on behalf of the applicant. Please see the General Section for information regarding the registration process or ask for registration information from the Grants.gov Support Desk. Please be aware that the registration process is a separate process from requesting e-mail notification of funding opportunities or downloading the application, and should be done as soon as you download the application from the Grants.gov Web site. If you are not sure if you are already registered, the Grants.gov Support Desk can verify that for you.

Applicants that choose to submit a paper application package must submit it to the following address: University Partnerships Clearinghouse, c/o Danya International, 8737 Colesville Road, Suite 1200, Silver Spring, MD 20910-3929. When submitting an application package, also please include the following information on the outside of the envelope:

a. Office of University Partnerships;

b. Universities Rebuilding America Partnerships (URAP)—Historically Black Colleges and Universities (HBCU);

c. Applicant's name and mailing address (including zip code); and

d. Applicant's telephone number (including area code).

A complete paper application package must include an original signed application, three copies, and one computer disk of the application (in Word 6.0 or higher) and required forms.

B. Content and Form of Application Submission

1. Forms

Copies of the forms required for submission are included in Appendix A of the General Section. The electronic version of the NOFA contains all forms required for submission. The required forms are as follows:

a. Application for Federal Assistance (SF-424);

b. Survey on Ensuring Equal Opportunity for Applicants (SF-424 Supplement);

c. Disclosure of Lobbying Activities (SF-LLL);

d. Applicant/Recipient Disclosure/Update Report (HUD-2880);

e. Program Logic Model (HUD-96010);

f. Grant Application Detailed Budget (HUD-424-CB);

g. Budget-By-Activity (HUD-40076); and

h. Facsimile Transmittal Cover Page (HUD-96011). This form must be used as part of the electronic application to transmit third-party documents and other information as described in the General Section as part of your electronic application submittal (if applicable). Applicants are advised to download the application package and complete the SF-424 first as it will pre-populate the Transmittal Cover page. The Transmittal Cover page will contain a unique identifier embedded in the page that will help HUD associate your faxed materials to your application. Please download the cover page and then make multiple copies to provide to any of the entities responsible for submitting faxed materials to HUD on your behalf. Please be sure to use the Facsimile Transmittal Cover Page as the cover page to any documents faxed in response to this NOFA. HUD will not accept entire applications submitted by facsimile.

2. Certifications and Assurances

Please read the General Section for detailed information on all Certifications and Assurances. All applications submitted through Grants.gov constitute an acknowledgement and agreement to all required certifications and assurances. Please include in your application each item listed. Applicants submitting paper copy applications should submit the application in the following order:

a. SF-424, Application for Federal Assistance. Please remember the following:

(1) The full grant amount (for the entire two years) should be entered, not the amount for just one year;

(2) Include the name, title, address, telephone number, fax number, and email address of the designated contact. This is the person who will receive the reviewers' comments; therefore, please ensure the accuracy of the information;

(3) The Employer Identification/Tax ID number;

(4) The DUNS number;

(5) The Catalog of Federal Domestic Assistance number for this program is 14.520;

(6) The project's proposed start date and completion date. For the purpose of this application, the program start date should be January 1, 2006; and

(7) The signature of the Authorized Organization Representative (AOR):

(a) Applicants submitting electronic applications. The signature of the AOR is the individual who has been authenticated by the credential provider to submit applications via Grants.gov. The AOR must be able to make a binding legal agreement with HUD. See the General Section for instructions and requirements for registration with Grants.gov.

(b) Applicants submitting paper applications. The signature of the Chief Executive Officer of the institution or his/her assigned designee is the individual who has the authority to make a binding legal agreement with HUD.

b. Application checklist. Applicants should use the checklist to ensure that they have all the required elements of their application submission. Applicants submitting an electronic application do not have to submit the checklist in their application. The checklist can be found in the NOFA (See Attachment A).

c. Abstract. Applicants must include no more than a one-page summary of the proposed project. Please include the following:

(1) A clear description of the proposed project activities, the designated disaster area, and the target population that will be assisted;

(2) A statement that the institution is an eligible institution because it is a two- or four-year fully accredited institution; the name of the accrediting agency; and an assurance that the accrediting agency is recognized by the U.S. Department of Education;

(3) The designated contact person, including phone number, fax number, and email address (this is the person who will receive the reviewers' comments; therefore, please ensure the accuracy of the information);

(4) University's name, department, mailing address, telephone number, fax number, and email address; and

(5) The principal investigator, if different from the designated contact person, for the project, including phone number, fax number, and email address.

d. Narrative statement addressing the factors. HUD will use the narrative response to the “Rating Factors” to evaluate, rate, and rank applications. The narrative statement is the main source of information. Applicants are advised to review each factor carefully for program-specific requirements. The response to each factor should be concise and contain only information relevant to the factor, but detailed enough to address each factor fully. Focus on how well the proposal responds to each of the factors. In factors where there are subfactors, each subfactor must be presented separately, with the short title of the subfactor presented. Make sure to address each subfactor and provide sufficient information about every element of the subfactor. The narrative section of an application must not exceed 15 pages, double spaced, in a Times Roman 12-point font (font requirements is not applicable to forms, budget narrative, assurances, commitment letters, memoranda of understanding, agreements, and abstracts). Each page of the narrative must include the applicant's name and each page must be numbered. Please note that although submitting pages in excess of the page limit will not disqualify an applicant, HUD will not consider the information on any excess page. This exclusion may result in a lower score or failure to meet a threshold requirement.

e. Budget. The budget submission must include the following:

(1) HUD-424-CB, “Grant Application Detailed Budget.” This budget form shows the total budget by year and by line item for the program activities to be carried out with the proposed HUD grant. Each year of the program should be presented separately. Applicants must also submit this form to reflect the total cost for the entire grant performance period (Grand Total).

(2) HUD-40076-HBCU, “Response Sheet, Budget-By-Activity.” This form must be used to document the entire two-year grant performance period. The form should include a listing of tasks to be completed for each activity necessary to be performed to implement the program, and the overall costs for each activity.

Remember to check addition in totaling the categories on all forms so that all items are included in the total. All budget forms must be fully completed. If an application is selected for award, the applicant may be required to provide greater specificity to the budget during grant agreement negotiations.

(3) Budget Justification. A narrative must be submitted that explains how the applicant arrived at the cost estimates for any line item over $5,000 cumulative. The proposed cost estimates should be both reasonable for the work to be performed and consistent with rates established for the level of expertise required to perform the work proposed in the geographical area. When necessary, quotes from various vendors or historical data should be used and included. When an applicant proposes to use a consultant, the applicant must indicate whether there is a formal written agreement. For each consultant, please provide the name, if known, hourly or daily rate, and the estimated time on the project. If you are proposing to do any of the following activities: acquisition of real property, construction or clearance and demolition, rehabilitation of residential, commercial or industrial structures, you must submit at least two reasonable appraisals/estimates supplied by qualified entities, other than the HBCU. Such an entity must be involved in the business of housing rehabilitation, construction, or management. Equipment and contracts cannot be presented as total of estimated costs. For equipment, applicants must provide a list by type, cost for each item, and explanation of the equipments use.

(4) Indirect Costs. Indirect costs, if applicable, are allowable based on an established approved indirect cost rate. Applicants should include a copy of their indirect cost rate agreement with their application. Please refer to Section IV.F of the General Section for further discussion on electronic submission of required documentation. Applicants that are selected for funding that do not have an approved indirect cost rate agreement (established by the appropriate Federal agency, Certified Public Accountant, or auditor) will be required to submit an indirect cost proposal to the cognizant federal agency to establish a rate. In such cases, HUD will issue an award with a provisional rate and assist applicants in having a rate established.

f. Appendix. All letters of commitment and other required forms should be placed in this section. For applicants submitting electronic applications, please refer to Section IV.F of the General Section for instructions on how third-party documents are to be submitted to HUD using the electronic submission process. An applicant SHOULD NOT submit general support letters or resumes or other back-up materials. If this information is included, it will not be considered during the review process. The additional items will also slow the transmission of your application.

C. Submission Dates and Times

An electronic application package must be received electronically by the Grants.gov portal no later than 11:59:59 p.m. Eastern time on or before December 1, 2005. Applications may be submitted in advance of the submission date. Electronic faxes using the Facsimile Transmittal (Form HUD-96011) cover sheet contained in the electronic application may be submitted prior to the application submission date and must be received no later than 11:59:59 p.m. Eastern time on the application submission date. Please see Section IV.F of the General Section for electronic application submission instructions and timely receipt requirements.

Applicants that submit a paper application must have the package postmarked on or before 12 midnight on the application due date and received by the Office of University Partnerships Clearinghouse within three (3) calendar days of the application due date. Applications should be sent using DHL, Falcon Carrier, Federal Express (FedEx), United Parcel Services (UPS), or the United States Postal Services (USPS), as access by other delivery services to the clearinghouse is not guaranteed. All applicants must obtain and save a delivery service receipt or certificate of mailing to indicate the application was submitted for delivery on or before the application due date. Hand deliveries will not be accepted.

D. Intergovernmental Review

This program is excluded from an Intergovernmental Review.

E. Funding Restrictions

Ineligible CDBG activities are listed at 24 CFR 570.207. Funding may only be provided to applicants that meet the standards for eligible applicants in Section III.A. Ineligible activities include but are not limited to:

1. Curriculum development and/or expansion of an institution's existing curriculum;

2. General government expenses; and

3. Political activities.

F. Other Submission Requirements

1. Application Submission and Receipt Procedure. Please read the General Section carefully and completely for the submission and receipt procedures for all applications because failure to comply may disqualify your application.

2. Paper application will be accepted.

V. Application Review Information

A. Criteria

1. Rating Factor 1: Capacity of the Applicant and Relevant Organizational Experience (25 Points)

This factor addresses the extent to which the institution has the organizational resources necessary to successfully implement the proposed activities in a timely manner. In rating this factor, HUD will consider the extent to which the proposal demonstrates:

Knowledge and Experience (25 Points). The knowledge and experience possessed by the proposed project director and staff, including the day-to-day program manager, consultants (including technical assistance providers), and contractors in planning and managing this kind of program for which funding is being requested. Applicants must clearly identify the following: key project team members, titles (e.g., project manager/coordinator, etc.), respective roles for the project staff, and a brief description of their relevant experience. Experience will be judged in terms of recent and relevant knowledge and skills of the staff to undertake the proposed eligible program activities. HUD will consider experience within the last five (5) years to be recent and experience pertaining to similar activities to be relevant.

2. Rating Factor 2: Need/Extent of the Problem (10 Points)

This factor addresses the extent to which there is a need for funding the proposed program activities in the designated disaster area. An indication of urgency of meeting the need to benefit the target area is not necessary, as this has already been identified for the entire regions affected by Hurricane Katrina or Rita. The need(s) described must be relevant to the activities for which funds are being requested. The proposal will be evaluated on the extent to which an assessment of the need for the proposed activities has been documented.

3. Rating Factor 3: Soundness of Approach (55 Points)

This factor addresses the quality and effectiveness of the proposed work plan.

This factor will be evaluated based on the extent to which the proposed work plan demonstrates the following:

a. (45 Points) Quality of the Work Plan. This subfactor will be evaluated on the extent to which an applicant provides a clear detailed description of the proposed project and anticipated accomplishments.

(1) (35 Points) Specific Services and/or Activities. The work plan must describe all proposed activities and major tasks required to successfully implement the proposed project and achieve anticipated accomplishments.

(a) Applicants must provide a clear description of the proposed activities and address the following:

(i) Describe each proposed activity required to successfully implement and complete the proposed project in measurable terms (e.g., the number of persons to be trained and employed, houses to be rehabilitated, or minority-owned businesses to be started, etc.);

(ii) List how each proposed activity meets one of the following Community Development Block Grant (CDBG) Program national objectives:

• Benefit low- and moderate-income persons;

• Aid in the prevention or elimination of slums or blight; or

• Meet other community development needs having a particular urgency because existing conditions pose a serious and immediate threat to the health and welfare of the community, and for which other financial resources are not available. Criteria for determining whether an activity addresses one or more objective are provided at 24 CFR 570.208;

(b) Outline the major tasks required (in sequential order) to successfully implement and complete the proposed program activities. Include target completion dates for each activity/task (in 6-month intervals, up to 24-months); and

(c) Identify the individuals, as described in Factor 1, who will be responsible for completing each activity/task.

(2) (10 Points) Describe clearly how each proposed activity will:

(a) Address the needs identified in Factor 2;

(b) Relate to and not duplicate other activities in the designated disaster area. Duplicative effort will be acceptable only if an applicant can demonstrate through documentation that there is a population in need that is not being served; and

(c) Involve and empower citizens of the target area in the proposed project.

b. (5 Points) Involvement of the Faculty and Students. The applicant must describe the extent to which it proposes to integrate the institution's students and faculty into proposed project activities.

c. (5 Points) Involvement of Community. Applicants must identify a partner within the designated hurricane disaster area to serve the impacted community, neighborhood, municipality, or metropolitan area. Applicants may receive four or five points under this subfactor as follows:

(1) (4 Points) Local community partner. Examples of potential partners are state and local governments; a quasi-government agency, such as a development corporation; public housing authority; local or national nonprofit organizations; institutions of higher education; financial institutions; foundations; and faith-based and other community-based organizations. Applicants must obtain a written agreement with the local partner that outlines the services needed and the involvement of the partner in the program to receive funding under this program.

(2) (5 Points) HBCU Partner. Applicants are encouraged to partner with an HBCU that is located within the hurricane-affected area. Applicants must obtain a written agreement with the local HBCU that outlines the services needed and the involvement of the partner in the program to receive funding under this program.

HUD reserves the right to require grantees to partner with a different HBCU than the institution that is identified at the time of application.

4. Rating Factor 4: Achieving Results and Program Evaluation (10 Points)

This factor reflects HUD's goal to embrace high standards of management and accountability. It measures the applicant's commitment to assess its performance to achieve the program's proposed objectives and goals. Applicants are required to develop an effective, quantifiable, outcome oriented evaluation plan for measuring performance and determining that objectives and goals have been achieved. The Logic Model is a summary of the narrative statements presented in Factors 1-3. Therefore, the information submitted on the logic model should be consistent with the information contained in the narrative statements, but does not have to be detailed.

“Outcomes” are benefits accruing to the community during or after participation in the program. Applicants must clearly identify the outcomes to be measured and achieved. Examples of outcomes include increased employment opportunities in the designated disaster area by a certain percentage, increased incomes/wages or other assets for persons trained, or enhanced family stability through the creation of job opportunities.

In addition, applicants must establish interim benchmarks and outputs that lead to the ultimate achievement of outcomes. “Outputs” are the direct products of the program's activities. Examples of outputs are the number of new affordable housing units, the number of homes that have been renovated, and the number of facilities that have been constructed or rehabilitated. Outputs should produce outcomes for the program. At a minimum, an applicant must address the following activities in the evaluation plan:

a. Measurable outputs to be accomplished (e.g., the number of persons to be trained and employed, houses to be rehabilitated, or minority-owned businesses to be started); and

b. Measurable outcomes the grant will have in the designated disaster target area or population.

This information must be placed on a HUD-96010, Program Outcome Logic Model form. Applicants may use as many copies of this form as required. It will not be included in the page count requirement. A narrative is not required or requested. The completed logic model should stand on its own. However, if a narrative is provided, those pages will be included in the page count. Additional information on this form and how to use it can be found in the General Section.

B. Review and Selection Process

1. Application Selection Process

Two types of reviews will be conducted:

a. A threshold review to determine an applicant's basic eligibility; and

b. A technical review for all applications that pass the threshold review to rate and rank the application based on the “Rating Factors” listed in Section V.A.

Only those applications that pass the threshold review will receive a technical review and be rated and ranked.

2. Rating Panels

To review and rate applications, HUD may establish panels, which may include experts or consultants not currently employed by HUD.

3. Ranking

HUD will fund applications in rank order, until all available program funds are awarded. In order to be funded, an applicant must receive a minimum score of 75 points out of a possible 100 points. HUD reserves the right to reduce the amount of funding requested in order to fund as many highly ranked applications as possible. Additionally, if funds remain after funding the highest ranked applications, HUD may fund part of the next highest-ranking application. If an applicant turns down an award offer, HUD will make an award to the next highest-ranking application. If funds remain after all selections have been made, the remaining funds will be carried over to the FY06 Historically Black Colleges and Universities Program funding cycle's competition.

4. Correction to Deficient Applications

The General Section provides the procedures for correction to deficient applications.

VI. Award Administration Information

A. Award Notice

After all selections have been made, HUD will notify all winning applicants in writing. HUD may require winning applicants to participate in additional negotiations before receiving an official award. For further discussion on this matter, please refer to the General Section.

B. Administrative and National Policy Requirements

For further discussion of this matter, please refer to Section VI.B. in the General Section.

1. Debriefing

The General Section provides the procedures for requesting a debriefing. All requests for debriefings must be made in writing and submitted no later than 90 days from the announcement of the awardees to: Ophelia Wilson, Office of University Partnerships, Robert C. Weaver Federal Building, 451 Seventh Street, SW., Room 8130, Washington, DC 20410-6000.

2. Administrative

Grants awarded under this NOFA will be governed by the provisions of 24 CFR part 84 (Grants and Agreements with Institutions of Higher Education, Hospitals and Other Non-Profit Organizations), A-21 (Cost Principles for Educational Institutions), and A-133 (Audits of States, Local Governments, and Non-Profit Organizations). Applicants can access the Office of Management and Budget (OMB) circulars at the OMB website at www.whitehouse.gov/omb/circulars/index.html.

3. OMB Circulars and Governmentwide Regulations Applicable to Financial Assistance Programs

The General Section provides further discussion on this matter.

4. Executive Order 13202, Preservation of Open Competition and Government Neutrality Towards Government Contractors' Labor Relations on Federal and Federally Funded Construction Projects

See the General Section for further discussion.

5. Procurement of Recovered Materials

See Section III.C.4 of the General Section for further discussion.

6. Code of Conduct

See the General Section for further discussion.

C. Reporting

All grant recipients under this NOFA are required to submit quarterly progress reports. The progress reports shall consist of two components, a narrative that must reflect the activities undertaken during the reporting period and a financial status report, as well as a cumulative summary of costs incurred during the reporting.

For each reporting period, as part of the required report to HUD, grant recipients must include a completed Logic Model form (HUD-96010), which identifies output and outcome achievements.

VII. Agency Contacts

Applicants may contact Ophelia Wilson at (202) 708-3061, extension 4390, or Susan Brunson at (202) 708-3061, extension 3852. Persons with speech or hearing impairments may call the Federal Information Relay Service (TTY) at (800) 877-8339. Except for the “800” number, these numbers are not toll-free. Applicants may also reach Ms. Wilson via e-mail at Ophelia_Wilson@hud.gov, and/or Ms. Brunson at Susan_S._Brunson@hud.gov.

VIII. Other Information

A. Fifteen (15) Percent Cap on Public Services

For this URAP-HBCU NOFA, the 15 percent cap on public service activities provided for in 24 CFR 570.201(e)(1) is inapplicable. Although HUD generally publishes regulatory changes for comment before issuing the regulation for effect, HUD may issue a regulatory change when good cause allows the Department to omit advance notice and comment, in accordance with HUD's rules at 24 CFR part 10. The good cause requirement is satisfied when prior public procedure is “impractical, unnecessary, or contrary to the public interest” (see 24 CFR 10.1). Because of the widespread devastation caused by Hurricanes Katrina and Rita and the urgency to provide assistance to persons affected by these natural disasters, HUD has determined that it would be contrary to the public interest to delay the effectiveness of this regulatory change in order to solicit prior public comment. Therefore, for grants awarded pursuant to this URAP-HBCU NOFA, there is no cap on the amount of grant funds that may be used for public service activities. This change is effective for this URAP-HBCU NOFA only and does not extend to any other program.

B. Environmental Requirements

This NOFA provides funding under, and does not alter the environmental requirements of 24 CFR 570.404. Accordingly, under 24 CFR 50.19(c)(5), this NOFA is categorically excluded from environmental review under the National Environmental Policy Act of 1969 (42 U.S.C. 4321). Activities under this NOFA are subject to the environmental review provisions set out at 24 CFR 570.404(i). See also environmental requirements in Sec. III.C.4.d of this NOFA.

C. Paperwork Reduction Act

The information collection requirements contained in this document have been submitted to the Office of Management and Budget (OMB) under the Paperwork Reduction Act of 1995 (44 U.S.C. 3501-3520) and assigned control number 2528-0235. In accordance with the Paperwork Reduction Act, HUD may not conduct or sponsor, and a person is not required to respond to, a collection of information unless the collection displays a currently valid OMB control number. Public reporting burden for the collection of information is estimated to average 356 hours per annum per respondent for the application and grant administration. This includes the time for collecting, reviewing, and reporting the data for the application, quarterly, semi-annual, and final reports. The information will be used for grantee selection and monitoring the administration of funds. Response to this request for information is required in order to receive the benefits to be derived.

Dated: October 24, 2005.
Darlene F. Williams,
Assistant Secretary for Policy Development and Research.

BILLING CODE 4210-62-P

[FR Doc. 05-21789 Filed 10-31-05; 8:45 am]

BILLING CODE 4210-62-C